DEPARTMENT OF THE INTERIOR

Bureau of Land Management

[LLWYR05000.L51100000.GN0000.LVEMK11CW630-WYW-168184]

Notice of Availability of the Final Environmental Impact Statement for the Sheep Mountain Uranium Project, Fremont County, Wyoming

AGENCY: Bureau of Land Management, Interior.

ACTION: Notice of Availability

SUMMARY: In accordance with the National Environmental Policy Act of 1969, as amended (NEPA), and the Federal Land Policy Act of 1976 (FLPMA), as amended, the Bureau of Land Management (BLM) has prepared a Final Environmental Impact Statement (EIS) for the Sheep Mountain Uranium Project and by this notice is announcing its availability.

DATES: The BLM will not issue a final decision on the proposal for a minimum of 30 days after the date that the Environmental Protection Agency publishes its Notice of Availability in the Federal Register.

ADDRESSES: Copies of the Sheep Mountain Uranium Project Final EIS are available for public inspection in the BLM Lander Field Office, 1335 Main Street, Lander, Wyoming; and in the BLM Wyoming State Office, 5353 Yellowstone, Cheyenne, Wyoming. Interested persons may also review the Final EIS on the Internet at the project Web site at http://www.blm.gov/wy/st/en/info/NEPA/documents/lfo/sheepmtn.html.

FOR FURTHER INFORMATION CONTACT: Chris Krassin, Project Manager, telephone 307-332-8400; address Lander Field Office, 1335 Main Street, Lander, Wyoming 82520; email blm_wy_sheep_mountain_eis@blm.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Titan Uranium USA Inc., a wholly owned subsidiary of Titan Uranium Inc., submitted a 43 CFR 3809 plan of operations to the BLM Lander Field Office (LFO) for the Sheep Mountain Uranium Project (Project) in Fremont County, Wyoming on June 16, 2011. On February 29, 2012, Energy Fuels Inc. acquired Titan Uranium Inc. and all of its subsidiaries are now wholly-owned subsidiaries of Energy Fuels Resources (USA) Inc. (Energy Fuels). Energy Fuels will continue as the owner and operator of the Project. Energy Fuels submitted a revised Plan of Operations to the BLM on July 9, 2012 and August 27, 2013.

The Project is located 8 miles south of Jeffrey City, Wyoming, in south-central Fremont County, in the Crooks Gap-Green Mountain Mining District, which was extensively mined starting in the 1950s. This area lies 62 miles southeast of Riverton, 67 miles north of Rawlins, and 105 miles southwest of Casper. The Project is within the active State of Wyoming Permit to Mine 381C administered by the Wyoming Department of Environmental Quality-Land Quality Division (WDEQ-LQD). Energy Fuels' revised application to Permit to Mine 381C was approved in July 2015. Energy Fuels is currently considering applying for a U.S. Nuclear Regulatory Commission (NRC) Source Materials License.

Energy Fuels proposes to explore for and develop uranium reserves to produce approximately 1.0 million to 2.0 million pounds of U3O8, or yellowcake, from the uranium ore per year over an anticipated project life of 20 years. Mining would be completed using conventional methods including open pit and underground methods. Ore processing into yellowcake would occur either on site using a heap leach and solvent extraction/ion exchange or off site using the existing conventional Sweetwater Uranium Mill approximately 30 miles to the south. The boundary of the Sheep Mountain Project Area is within the active WDEQ-LQD Permit to Mine 381C Permit Area, encompassing approximately 3,611 acres (approximately 5.6 square miles), of which approximately 929 acres would be disturbed under the Proposed Action Alternative. Approximately 62 percent (572.5 acres) of the surface within the proposed action disturbance area historically was disturbed by previous mining and exploration activities.

The Final EIS addresses the direct, indirect and cumulative impacts of the proposed action, the No Action Alternative and the BLM Mitigation Alternative.

The No Action Alternative, as required by NEPA, describes conditions that would occur if the proposed Project were denied. The No Action Alternative includes reclamation by Energy Fuels of approximately 144 acres as required by the WDEQ-LQD Permit to Mine 381C, and the reclamation of the existing McIntosh Pit by the WDEQ-Abandoned Mine Lands Program which began in 2014 and is scheduled to conclude in 2020. The Proposed Action Alternative is the Project as proposed by Energy Fuels in its plan of operations and the WDEQ-LQD Permit to Mine 381C as approved in July 2015.

The BLM Mitigation Alternative would utilize the same conventional mining techniques over the same period as under the Proposed Action Alternative, but modifications to the proposed reclamation plan would be required. In addition, the BLM Mitigation Alternative would identify opportunities to apply hierarchical mitigation strategies for on-site and regional mitigation strategies and identify areas appropriate to apply landscape-level conservation and management actions to achieve resource objectives.

The Notice of Intent to prepare an EIS was published in the Federal Register on August 23, 2011 (76 FR 52688). The scoping comments received in response to this notice were used while preparing the Draft EIS to inform during alternative development and to identify issues to be analyzed in the impact analysis. A 45-day public comment period for the Draft EIS was held from January 16-March 2, 2015. The BLM hosted a public meeting in Lander at the Fremont County Library on January 28, 2015.

Notable changes to the Draft EIS based on comments received include the following:

• Clarified the description of specific aspects of the Proposed Action, including revisions to the WDEQ-LQD Mine Permit 381C, storm-water management, disposal of dewatered waste water under the Wyoming Pollutant Discharge Elimination System (WYPDES), and roles and responsibilities of permitting agencies in allowing off-site versus on-site processing.

• Reviewed and revised the analysis of impacts to water resources as a result of the WYPDES permit and storm-water management plans under the Proposed Action Alternative for consistency with Mine Permit 381C.

• Added details to the analysis of impacts to Greater Sage-Grouse, particularly in regards to hauling material off site which included analyzing alternative haul routes to the potential off-site processing facility.

• Added details to the analysis of other resources such as public health and safety, wetlands, vegetation, soils, water, climate and air quality.

Following a 30-day Final EIS availability and review period, a Record of Decision (ROD) will be issued. The decision reached in the ROD is subject to appeal to the Interior Board of Land Appeals. The 30-day appeal period begins with the issuance of the ROD.

Authority: 40 CFR 1506.6, 40 CFR 1506.10

Mary Jo Rugwell,
BLM Wyoming State Director.

[FR Doc. 2016-20449 Filed 8-25-16; 8:45 am]

BILLING CODE 4310-22-P